DEPARTMENT OF TRANSPORTATION

Federal Aviation Administration

14 CFR Part 39

[Docket No. FAA-2005-20856; Directorate Identifier 2004-NE-25-AD]

RIN 2120-AA64

Airworthiness Directives; MT-Propeller Entwicklung GmbH Propellers

AGENCY: Federal Aviation Administration (FAA), DOT.

ACTION: Notice of proposed rulemaking (NPRM).

SUMMARY: The FAA proposes to adopt a new airworthiness directive (AD) for certain MT-Propeller Entwicklung GmbH variable pitch and fixed pitch propellers with serial numbers (SNs) below 95000, which have not been overhauled since April 1994. This proposed AD would require you to perform initial and repetitive visual inspections of those propeller blades. Further, this proposed AD would require you to remove all propeller blades from service with damaged erosion sheath bonding or loose erosion sheaths and to install any missing or damaged polyurethane protective strips. This proposed AD results from reports of stainless steel leading edge erosion sheaths separating from propeller blades and reports of propeller blades missing or without polyurethane protective strips due to insufficient inspection procedures in older MT-Propeller Entwicklung GmbH Operation & Installation Manuals. We are proposing this AD to prevent erosion sheath separation leading to damage of the airplane.

DATES: We must receive any comments on this proposed AD by June 6, 2005.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact MT-Propeller USA, Inc., 1180 Airport Terminal Drive, Deland, FL 32724; telephone (386) 736-7762, fax (386) 736-7696 or visit http://www.mt-propeller.com for the service information identified in this proposed AD.

FOR FURTHER INFORMATION CONTACT: Frank Walsh, Aerospace Engineer, Boston Aircraft Certification Office, FAA, Engine and Propeller Directorate, 12 New England Executive Park, Burlington, MA 01803-5299; telephone (781) 238-7158, fax (781) 238-7170.

SUPPLEMENTARY INFORMATION:

Comments Invited

We invite you to submit any written relevant data, views, or arguments regarding this proposal. Send your comments to an address listed under ADDRESSES. Include “Docket No. FAA-2005-20856; Directorate Identifier 2004-NE-25-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received, and any final disposition in person at the DMS Docket Offices between 9 a.m. and 5 p.m., Monday through Friday, except Federal holidays. The Docket Office (telephone (800) 647-5227) is on the plaza level of the Department of Transportation Nassif Building at the street address stated in ADDRESSES. Comments will be available in the AD docket shortly after the DMS receives them.

Discussion

The Luftfahrt-Bundesamt (LBA), which is the aviation authority for Germany, notified us that an unsafe condition may exist on certain MT-Propeller Entwicklung GmbH variable pitch and fixed pitch propellers. The LBA advises of reports of stainless steel leading edge erosion sheaths separating from propeller blades and reports of propeller blades with damaged or missing polyurethane protective strips (PU-protection tape) due to insufficient inspection procedures in older MT-Propeller Entwicklung GmbH Operation & Installation Manuals.

Relevant Service Information

We have reviewed and approved the technical contents of MT-Propeller Service Bulletin (SB) No. 8A, dated July 4, 2003, which describes the visual inspections, removals, and installations proposed by this AD. The LBA classified this SB as mandatory and issued airworthiness directive 1994-098-2, dated September 24, 2003, in order to ensure the airworthiness of these MT-Propeller Entwicklung GmbH propellers in Germany.

FAA's Determination and Requirements of the Proposed AD

These propeller models, manufactured in Germany, are type-certificated for operation in the United States under the provisions of section 21.29 of the Federal Aviation Regulations (14 CFR 21.29) and the applicable bilateral airworthiness agreement. In keeping with this bilateral airworthiness agreement, the LBA kept us informed of the situation described above. We have examined the LBA's findings, reviewed all available information, and determined that AD action is necessary for products of this type design that are certificated for operation in the United States. We are proposing this AD, which would require you to:

• Visually inspect certain MT-Propeller Entwicklung GmbH variable pitch and fixed pitch propellers with SNs below 95000.

• Remove from service, certain MT-Propeller Entwicklung GmbH variable pitch and fixed pitch propellers with SNs below 95000 if the propeller blades have damaged erosion sheath bonding or loose erosion sheaths.

• Install polyurethane protective strips onto propeller blades that are missing these strips or have damaged strips.

Costs of Compliance

We estimate that 103 of these MT-Propeller Entwicklung GmbH variable pitch and fixed pitch propellers installed on aircraft of U.S. registry would be affected by this proposed AD. We also estimate that it would take about 2 work hours to inspect and install the polyurethane protective strip of each affected propeller and 4 work hours to remove each affected propeller, and that the average labor rate is $65 per work hour. Required parts to inspect and install the polyurethane protective strip of each affected propeller would cost about $20. Based on these figures, we estimate the total cost of the proposed AD to U.S. operators to be $15,780.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

MT-Propeller Entwicklung GmbH: Docket No. FAA-2005-20856; Directorate Identifier 2004-NE-25-AD.

Comments Due Date

(a) The Federal Aviation Administration (FAA) must receive comments on this AD action by June 6, 2005.

Affected ADs

(b) None.

Applicability

(c) This AD applies to MT-Propeller Entwicklung GmbH, models MT, MTV-1, MTV-2, MTV-3, MTV-5, MTV-6, MTV-7, MTV-9, MTV-10, MTV-11, MTV-12, MTV-14, MTV-15, MTV-17, MTV-18, MTV-20, MTV-21, MTV-22, MTV-24, and MTV-25 propellers with serial numbers (SNs) below 95000, which have not been overhauled since April 1994. These propellers may be installed on but not limited to, Sukhoi SU-26, SU-29, SU-31; Yakovlev YAK-52, YAK-54, YAK-55; and Technoavia SM-92 airplanes.

Unsafe Condition

(d) This AD results from reports of stainless steel leading edge erosion sheaths separating from propeller blades and reports of propeller blades with damaged or missing polyurethane protective strips (PU-protection tape) due to insufficient inspection procedures in older MT-Propeller Entwicklung GmbH Operation & Installation Manuals. We are issuing this AD to prevent erosion sheath separation leading to damage of the airplane.

Compliance

(e) You are responsible for having the actions required by this AD performed within the compliance times specified unless the actions have already been done.

Note 1: Information about inspection procedures and acceptable limits can be found in Table 1 of this AD.

Initial Visual Inspection of the Propeller Blade

(f) During the next preflight inspection or 100-hour inspection, whichever occurs first, after the effective date of this AD, inspect all MT and MTV propellers listed in paragraph (c) of this AD, by doing the following:

(1) Determine if the erosion sheath of any propeller blade is cracked or loose; and

(2) Determine if any propeller blade has other damage out of acceptable limits.

(3) Before the next flight, remove from service those propeller blades with a cracked or loose erosion sheath, or other damage affecting airworthiness.

Table 1.—Service Information
For propeller model . . . | See operation and installation manual . . .
(1) MT | No. E-112, issued Nov. 1993 or later.
(2) MTV-1, MTV-7, MTV-10, MTV-17, MTV-18, MTV-20 | No. E-118, issued March 1994 or later.
(3) MTV-5, MTV-6, MTV-9, MTV-11, MTV-12, MTV-14, MTV-15, No. MTV-21, MTV-22, MTV-25 | No. E-124, issued March 1994 or later.
(4) MTV-2, MTV-3 | No. E-148, issued March 1994 or later.
(5) MTV-24 | No. E-309, issued March 1994 or later.

Initial Visual Inspection of the Propeller Blade Polyurethane Strip

(g) During the next pilot's preflight inspection after the effective date of this AD, if the polyurethane protective strip on the leading edge of the inner portion of the blade is found to be damaged or missing, the polyurethane protective strip must be replaced or installed within 10-flight hours. If electrical de-icing boots are installed, no polyurethane protective strips are required.

Repetitive Visual Inspection of the Propeller Blade

(h) If after the effective date of this AD, any propeller blade erosion sheath found to be cracked or loose during the pilot's preflight inspection, or 100-hour inspection, or annual inspection, must be repaired, replaced, or overhauled before the next flight.

Repetitive Visual Inspection of the Propeller Blade Polyurethane Strip

(i) If after the effective date of this AD, any propeller blade polyurethane protective strip found to be damaged or missing during the pilot's preflight inspection, or 100-hour inspection, or annual inspection, must be replaced or installed within 10-flight hours. If electrical de-icing boots are installed, polyurethane protective strips are not required.

Overhaul of Blades

(j) Overhaul all affected blades by December 31, 2005.

Alternative Methods of Compliance

(k) The Manager, Boston Aircraft Certification Office, has the authority to approve alternative methods of compliance for this AD if requested using the procedures found in 14 CFR 39.19.

Special Flight Permits

(l) Special flight permits are prohibited.

Related Information

(m) MT-Propeller Entwicklung GmbH, Service Bulletin No. 8A, dated July 4, 2003, pertains to the subject of this AD. LBA airworthiness directive 1994-098/2, dated September 24, 2003, also addresses the subject of this AD.

Issued in Burlington, Massachusetts, on March 29, 2005.
Diane Cook,
Acting Manager, Engine and Propeller Directorate, Aircraft Certification Service.

[FR Doc. 05-6777 Filed 4-5-05; 8:45 am]

BILLING CODE 4910-13-P